ENVIRONMENTAL PROTECTION AGENCY

40 CFR Part 63

[EPA-HQ-OAR-2018-0747; FRL-10010-12-OAR]

RIN 2060-AU16

National Emission Standards for Hazardous Air Pollutants: Miscellaneous Coating Manufacturing Residual Risk and Technology Review

Correction

In rule document 2020-13439 beginning on page 49724 in the issue of August 14, 2020, make the following correction:

§ 63.8000 [Corrected]

On page 49742, in the first column, in § 63.8000(vi), in the 14th line “August 15, 2022” should read “August 15, 2018”.

[FR Doc. C1-2020-13439 Filed 11-24-20; 8:45 am]

BILLING CODE 1301-00-D